DEPARTMENT OF THE INTERIOR

Fish and Wildlife Service

Klamath Fishery Management Council

AGENCY: Fish and Wildlife Service, Interior.

ACTION: Notice of meeting.

SUMMARY: We, the Fish and Wildlife Service, announce a meeting of the Klamath Fishery Management Council (Council), to take place by conference call. The meeting is open to the public. The Klamath Fishery Management Council makes recommendations to agencies that regulate harvest of anadromous fish in the Klamath River Basin. The purpose of this meeting is to formulate a recommendation to the Pacific Fishery Management Council regarding a proposed amendment to their Fishery Management Plan for Commercial and Recreational Salmon Fisheries Off the Coasts of Washington, Oregon and California. The proposed amendment concerns the harvest of Klamath River fall Chinook salmon in years of low projected abundance.

DATES: The meeting will be from 10 a.m. to 12 p.m. on Wednesday, September 6, 2006.

ADDRESSES: The meeting will be held by conference call. Members of the public may participate in the call by appearing in person at the appointed meeting time at the Yreka Fish and Wildlife Office (Yreka FWO), 1829 South Oregon Street, Yreka, California, or by requesting an access telephone number in advance from the Yreka FWO. The Yreka FWO's telephone number is (530) 842-5763.

FOR FURTHER INFORMATION CONTACT: Phil Detrich, Field Supervisor, U.S. Fish and Wildlife Service, 1829 South Oregon Street, Yreka, California, 96097, telephone (530) 842-5763.

SUPPLEMENTARY INFORMATION: Under section 10(a)(2) of the Federal Advisory Committee Act (5 U.S.C. App. I), we announce a meeting of the Klamath Fishery Management Council. This Council was established under the Klamath River Basin Fishery Restoration Act (16 U.S.C. 460ss et seq.).

For background information on the Council, please refer to the Federal Register notice of the initial meeting (July 8, 1987, 52 FR 25639).

Dated: August 9, 2006.
John Engbring,
Acting California/Nevada Operations Office Manager, California/Nevada Office, Fish and Wildlife Service, Sacramento, CA.

[FR Doc. E6-13339 Filed 8-14-06; 8:45 am]

BILLING CODE 4310-55-P